DEPARTMENT OF AGRICULTURE

Forest Service

Sabine-Angelina Resource Advisory Committee

AGENCY: Forest Service, USDA.

ACTION: Solicitation of nominees.

SUMMARY: In accordance with the Secure Rural Schools and Community Self-Determination Act (Pub. L. 110-343) (the Act) and the Federal Advisory Committee Act (FACA) (5 U.S.C., App. 2), the Sabine-Angelina Resource Advisory Committee (RAC) announces the solicitation of nominees to fill vacancies. The purpose of the committee is to improve collaborative relationships and to provide advice and recommendations to the Forest Service concerning projects and funding consistent with Title II of the Act. The RAC covers the Angelina and Sabine National Forests.

DATES: Nominations must be received on or before September 30, 2014. Nominations must contain a completed application package that includes the following:

(1) Nominee's name,

(2) Resume, and

(3) Completed Form AD-755 (Advisory Committee or Research and Promotion Background Information).

The package must be sent to the address listed below.

ADDRESSES: Send nominations and applications to Kimpton M. Cooper, District Ranger or Becky Nix, RAC Coordinator, Sabine Ranger District, 5050 State Hwy 21 East, Hemphill, Texas 75948.

FOR FURTHER INFORMATION CONTACT: Kimpton M. Cooper by phone at 409-625-1940 or 936-897-1068 or via email at kmcooper@fs.fed.us.

Individuals who use telecommunication devices for the deaf (TDD) may call the Federal Information Relay Service (FIRS) at 1-800-877-8339 between 8:00 a.m. and 8:00 p.m., Eastern Standard Time, Monday through Friday.

SUPPLEMENTARY INFORMATION:

Background

On October 2, 2013, the Helium Stewardship Act of 2013 (Pub. L. 113-40) reauthorized the Act. The purpose of the RAC is to improve collaborative relationships among the people that use and care for the National Forests and to provide advice and recommendations to the Forest Service concerning projects and funding consistent with Title II of the Act. The duties of the RAC include monitoring projects, advising the Secretary on the progress and results of the monitoring efforts, and making recommendations to the Forest Service for any appropriate changes or adjustments to the projects being monitored by the RACs.

RAC Membership

The RAC will be comprised of 15 members approved by the Secretary of Agriculture. RAC membership will be fairly balanced in terms of the points of view represented and functions to be performed. The RAC members will serve 4-year terms. The RAC shall include representation from the following interest areas:

(1) Five persons who represent:

(a) Organized Labor or Non-Timber Forest Product Harvester Groups,

(b) Developed Outdoor Recreation, Off-Highway Vehicle Users, or Commercial Recreation Activities,

(c) Energy and Mineral Development, or Commercial or Recreational Fishing Groups,

(d) Commercial Timber Industry, or

(e) Federal Grazing Permit or Other Land Use Permit Holders, or Representative of Non-Industrial Private Forest Land Owners, within the area for which the committee is organized.

(2) Five persons who represent:

(a) Nationally or Regionally Recognized Environmental Organizations,

(b) Regionally or Locally Recognized Environmental Organizations,

(c) Dispersed Recreational Activities,

(d) Archaeology and History, or

(e) Nationally or Regionally Recognized Wild Horse and Burro Interest, Wildlife Hunting Organizaitons, or Watershed Associations.

(3) Five persons who represent:

(a) Hold State-Elected Office,

(b) Hold County or Local-Elected Office,

(c) American Indian Tribes within or adjacent to the area for which the committee is organized,

(d) Area School Officials or Teachers, or

(e) Affected Public at Large.

In the event that a vacancy arises, the DFO may fill the vacancy with a replacement member appointed by the Secretary, if an appropriate replacement member is available.

Nominations and Applications Information

The appointment of members to the RAC will be made by the Secretary of Agriculture. Any individual or organization may nominate one or more qualified persons to represent the interest areas listed above. To be considered for membership, nominees must:

1. Be a resident of Texas;

2. Identify what interest group they would represent and how they are qualified to represent that interest group;

3. State why they want to serve on the RAC and what they can contribute;

4. Show their past experience in working successfully as part of a working group on forest management activities; and

5. Complete Form AD-755, Advisory Committee or Research and Promotion Background Information.

You may contact the person listed above to receive the Form AD-755. All nominations will be vetted by the Agency.

Equal opportunity practices, in line with the USDA policies, will be followed in all appointments to the RACs. To ensure that the recommendations of the RACs have taken into account the needs of the diverse groups served by the Department, membeship should include, to the extent practicable, individuals with demonstrated ability to represent the needs of all racial and ethnic groups, women and men, and persons with disabilities.

Dated: April 25, 2014.
Gregory Parham,
Assistant Secretary of Administration.

[FR Doc. 2014-10232 Filed 5-2-14; 8:45 am]

BILLING CODE 3411-15-P